DEPARTMENT OF LABOR

Mine Safety and Health Administration

Petitions for Modification of Application of Existing Mandatory Safety Standards

AGENCY: Mine Safety and Health Administration, Labor.

ACTION: Notice.

SUMMARY: Section 101(c) of the Federal Mine Safety and Health Act of 1977 and 30 CFR part 44 govern the application, processing, and disposition of petitions for modification. This notice is a summary of petitions for modification submitted to the Mine Safety and Health Administration (MSHA) by the parties listed below to modify the application of existing mandatory safety standards codified in Title 30 of the Code of Federal Regulations.

DATES: All comments on the petitions must be received by the Office of Standards, Regulations and Variances on or before May 20, 2013.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations and Variances, 1100 Wilson Boulevard, Room 2350, Arlington, Virginia 22209-3939, Attention: George F. Triebsch, Director, Office of Standards, Regulations and Variances. Persons delivering documents are required to check in at the receptionist's desk on the 21st floor. Individuals may inspect copies of the petitions and comments during normal business hours at the address listed above.

MSHA will consider only comments postmarked by the U.S. Postal Service or proof of delivery from another delivery service such as UPS or Federal Express on or before the deadline for comments.

FOR FURTHER INFORMATION CONTACT: Barbara Barron, Office of Standards, Regulations and Variances at 202-693-9447 (Voice), barron.barbara@dol.gov (Email), or 202-693-9441 (Facsimile). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Number: M-2013-015-C.

Petitioner: Affinity Coal Company, LLC, 110 Spring Drive, Blountville, Tennessee 37617.

Mine: Affinity Mine, MSHA I.D. No. 46-08878, 111 Affinity Complex Road, Sophia, West Virginia 25921, located in Raleigh County, West Virginia.

Regulation Affected: 30 CFR 75.380 (Escapeways; bituminous and lignite mines).

Modification Request: The petitioner requests a modification of the existing standard to permit the use of its slope belt as an alternate escapeway to transport miners. The petitioner states that:

(1) The slope belt conveyor will be equipped with a backup generator to supply power to the slope belt in the event of power outage.

(2) The slope belt conveyor will be equipped with an automatic braking system to prevent the belt from reversing direction if power is lost.

(3) Positive acting stop controls will be installed along the slope belt conveyor and the controls will be readily accessible and maintained so that the belt can be stopped or started at any location.

(4) The slope belt conveyor will have a minimum vertical clearance of 18 inches from the nearest overhead projection when measured from the edge of the belt, and there will be at least 36-inches of side clearance where persons board and leave the slope conveyor.

(5) When persons are being transported on the slope belt conveyor, whether on regularly scheduled mantrips or as an emergency escape facility, the belt speed will not exceed 300 feet per minute when the vertical clearance is less than 24 inches and will not exceed 350 feet per minute when the vertical clearance is 24 inches or more.

(6) Adequate illumination including colored lights or reflectors will be installed at all loading and unloading stations on the slope conveyor belt. Such colored lights will be located as to be observable to all persons riding the conveyor belt.

(7) The slope conveyor belt will not be used to transport supplies and the slope conveyor will be clear of all material, including coal, before persons are transported.

(8) Telephone or other suitable communications will be provided at points where persons are loaded on or unloaded from the slope belt conveyor.

(9) Crossing facilities will be provided wherever persons must cross the moving slope conveyor or any other moving belt conveyor belt to gain access to or leave the mechanical escape facility.

(10) An operator will be stationed to turn the belt on and off.

(11) The slope belt conveyor will be examined by a certified person(s) at least once each week. The examination will include

(a) Operating the slope belt conveyor as an emergency escape facility.

(b) Examination for hazards along the slope belt conveyor and examination of the mechanical and electrical condition of the slope conveyor system.

(c) Immediate reporting of any hazards or mechanical deficiencies observed.

(d) Confirmation that any reported hazards or defects are corrected before the slope belt is used as a mantrip or serves as an emergency escapeway facility.

(12) The person(s) making the examination(s) required by the Proposed Decision and Order (PDO) will certify by initials, date and time the examination(s) was made. The certification will be at the loading and unloading stations of the slope conveyor belt.

(13) Prior to implementing the modification requested in this petition, all persons who inspect, maintain, or ride the slope conveyor will be instructed in the special terms and conditions of this alternative method.

The petitioner asserts that the proposed alternative method will guarantee the miners affected no less than the same measure of protection afforded by the standard.

Docket Number: M-2013-016-C

Petitioner: Rosebud Mining Company, P.O. Box 1025, Northern Cambria, Pennsylvania 15714.

Mine: Heilwood Mine, MSHA I.D. No. 36-09407, located in Indiana County, Pennsylvania.

Regulation Affected: 30 CFR 75.1710-1(a)(4) (Canopies or cabs; self-propelled diesel-powered and electric face equipment; installation requirements).

Modification Request: The petitioner requests a modification of the existing standard to permit the use of shuttle cars without canopies in heights less than forty eight inches. The petitioner states that:

(1) The Lower Kittanning coal seam at Heilwood Mine is 26 to 54 inches high. Variations in coal height often are associated with the presence of sandstone channels which scour the coalbed and also contribute to irregular structure contours (i.e., seam rolls).

(2) The equipment consists of three Joy Shuttle Cars, Model #21SC.

(3) Due to widely varying seam heights, the shuttle car canopies often have to be lowered to their minimum height. In this lowered position, the forward window height varies from 6 to 8 inches among the three cars. The lowered canopy position greatly reduces visibility and line-of-sight for the equipment operator's which, in turn, increases the potential for “struck by” injuries to miners traveling or working in the vicinity of the equipment.

(4) Concern for “struck by” accidents is exacerbated by the fact that the cars are operating in narrow entries with less than normal clearances. The approved roof control plan limits entry width to a maximum of 18 feet and the entries actually are being maintained at about 16 feet to limit roof span and improve entry stability.

(5) The lowered canopy position creates cramped and physically stressful conditions for the equipment operators.

(6) To alleviate the cramped posture and limited visibility associated with the lowered canopy position, miners may be tempted to lean out of the side of the operator's compartment, which negates any benefit of the canopy and increases the potential for head/neck injuries.

(7) The mine roof at the Heilwood Mine varies substantially but currently, shuttle cars are operating in a section in which tensioned bolts, cable bolts, and roof channels are specified in the approved roof plan to be installed to ensure the stability of thinly laminated strata and/or interbedded sandstone and shale layers. The primary supports (fully grouted tensioned rebar bolts), supplemental supports (tensioned and non-tensioned cable bolts), and roof channels used to address these conditions protrude below the roof line and are more vulnerable to damage by moving equipment than traditional headed roof bolts.

(8) Mining heights on the section currently vary from 45 to 51 inches. However, measurements beneath the installed support measure as little as 41 inches. Much of the height reduction is associated with the bolt/cable/plate dimension below the roof line. Some loss of height is also due to floor heave. Despite the use of adequately sized pillars (safety factor approximately equal to 3.5), floor heave is sometimes evident on the mining section.

(9) The shuttle cars have been equipped with the lowest profile tire that can be practically employed (35x10x15). With these tires and the canopies in the lowest possible position, the shuttle car canopies extend 41 inches above the mine floor. Uneven bottom profiles (i.e., rolling seam conditions) and/or seam height variations in the mine cause the canopies to strike and dislodge roof bolts resulting in a damaged and weakened roof support system.

(10) Shuttle car operators will remain under supported roof at all times. Canopies will be used in areas where the mining height exceeds forty-eight (48) inches.

The petitioner asserts that the use of canopies on shuttle cars in mining heights less than forty eight inches in the Heilwood Mine results in a diminution of safety to the miners.

Docket Number: M-2013-017-C.

Petitioner: Highland Mining Company, LLC, 12312 Olive Boulevard, Suite 425, St. Louis, Missouri 63141.

Mine: Highland No. 9 Mine, MSHA I.D. No. 15-02709, 530 French Road, Waverly, Kentucky 42462, located in Union County, Kentucky.

Regulation Affected: 30 CFR 75.1100-3 (Condition and examination of firefighting equipment).

Modification Request: The petitioner requests a modification of the existing standard to permit an alternative method of compliance for maintaining firefighting equipment in a usable and operative condition that will prevent freezing of the waterline and damage to connected firefighting equipment. The petitioner states that:

(1) As an alternative method of providing a waterline due to the freezing and subfreezing conditions experienced at the Highland No. 9 Mine site during cold weather, the petitioner proposes to establish, by designation, a dry waterline in the slope area of the mine to prevent water contained in the otherwise charged waterline from freezing, that could prevent water from flowing through the waterline during an emergency, or, by expansion, could damage the waterline and connected firefighting equipment.

(2) The area to be serviced by the dry waterline system is from the surface mouth of the slope to the slope bottom. Areas of the mine inby the designated terminus of the dry waterline system at the slope bottom will continue to be serviced by a charged waterline as currently installed and maintained.

(3) As an alternative to the waterline in the slope remaining charged at all times, the petitioner proposes to install a 2-inch dry-line the full length of the slope belt. Fire house outlets will be installed and maintained at each access door between the upper and lower levels of the slope not to exceed 300 feet. A water outlet will be installed and maintained coming from the steel main water supply at the belt tailpiece. All access doors between the upper and lower compartments will be maintained in working condition.

(4) The dry-line system will only be used October 1st through April 30th. During the remaining days of the year, the water line along the slope belt conveyor will remain charged with water. Before entering the mine, miners will be informed when the system is changed from normal to dry line and when it is changed back.

(5) Two electronically actuated solenoid valves installed in parallel will be in-line with the slope belt waterline located in an underground concrete hole located on the surface. Electrical power will be necessary to hold these valves in a closed position. The valves will return to the open position (charging the waterline) upon loss of voltage or when activated by computer.

(6) The solenoids valves will be connected to the carbon monoxide monitoring system through programmable logic controller (PLC) programming. The valves will be automatically activated if any carbon monoxide (CO) sensor along the slope, including the first sensor inby the slope tailpiece, detects a concentration of CO that reaches 10 parts per million above the ambient level of CO specified in the mine approved ventilation plan. If there is a programmed delay on any of the CO sensors in the slope or the first CO sensor inby the slope tailpiece, then the valves will be activated at 20 parts per million above the ambient level of CO specified in the mine approved ventilation plan regardless of the delay. The solenoid valves are to be manually unlatched through the PLC programming once they are actuated.

(7) A manually operated bypass valve will be installed in parallel with the automatic valves. The manually operated valve will normally be closed and utilized to charge the waterline should both automatic valves fail. If a miner or miners are underground, a person trained in the location and operation of the manual bypass valve will be sent immediately to the valve if the CO at any slope sensor or the sensor inby the slope tailpiece reaches 5 parts per million above the ambient level of CO specified in the mine approved ventilation plan. If the automatic valves fail to open and charge the waterline at 10 parts per million CO above the ambient level of CO specified in the mine approved ventilation plan, then the person will open the manual bypass valve to charge the waterline.

(8) Water will automatically charge the line if either the solenoid or manual bypass is moved to the open position.

(9) The solenoid valves will be capable of being actuated and reset from the CO monitoring room. At least two miners on each shift and the Security Station staff will be trained in procedures for actuation and resetting the solenoid valves. A properly trained person will be available at all times (i.e., 24 hours each day, 7 days each week) to actuate and/or reset the valves.

(10) An outlet with a manual valve will be installed downstream of the solenoid valves just outside the underground concrete hole. This manual valve will be designated as a test/drain valve and will be closed except when testing the system or draining the water after testing or actuation.

(11) A manual valve will be installed just downstream of the test/drain valve. This valve will be open at all times, except when testing the system. During testing, this valve may be closed to isolate the dry-line, allowing the system to be tested without filling the entire length of the waterline.

(12) All valves and switches that are part of this system will be maintained operable and will be clearly marked and labeled in a conspicuous and reflective manner. All valves and switches will be located so that they are easily accessible for inspection and operation. Reflective signs will be conspicuously placed in the slope belt compartment indicating the location of each fire hose outlet.

(13) The dry-line system will be examined and functionally tested at intervals not to exceed 7 days. A record of the examinations will be recorded according to 30 CFR 75.364(h). Any deficiency will be corrected immediately and noted along with the corrective action in the record for the system. If any time the dry-line system does not function properly, the waterline will be charged with water until repairs are made to the system and testing shows proper operation. All miners will be immediately informed of any changes in the operational status of the dry-line system.

(14) Miners will be informed of any changes in the operational status of the dry-line system prior to entering the mine if it has changed since the last shift.

(15) Pressure relief valves will be located along the waterline to relieve pressure (entrapped air) when the waterline is charging.

(16) At least 500 feet of fire hose with necessary fittings and wrenches/tools will be stored in plastic storage containers near: (a) The slope mouth on catwalk area; and (b) the slope tailpiece. The containers will be conspicuously marked as to their contents and maintained in an untangled and orderly fashion. Additional fire hose will be kept at strategic locations (approximately 150 feet apart) to ensure that any affected area along the belt can be covered from the most proximate fire hose outlet.

(17) A system will be used to continuously monitor the communications between the CO monitoring system and the automatic solenoid valves. The waterline will be immediately charged with water if the CO system fails, if the CO sensors along the slope belt stop functioning properly, or if the communication between the CO monitoring system and the automatic solenoid valves is disrupted.

(18) Prior to implementing the dry-line system specified in the terms and conditions of the Proposed Decision and Order, the petitioner will submit to the District Manager proposed revisions to the Mine Emergency Evacuation and Firefighting Program of Instruction required by 30 CFR 75.1502. The proposed revisions will address training for all miners, including those required to remotely actuate and/or reset the solenoid valves. Additionally, pursuant to 30 CFR 75.1504(b)(5), miners will be trained quarterly on the operation of the fire suppression system, and the location and use of the firefighting equipment and materials. All miners will be trained in accordance with the approved revisions prior to implementation of the system.

The petitioner asserts that the proposed alternative method will not result in a diminution of safety to the miners affected and/or otherwise provided by the existing standard.

Docket Number: M-2013-018-C.

Petitioner: Gibson County Coal, LLC, P.O. Box 1269, Princeton, Indiana 47670.

Mine: Gibson North Mine, MSHA I.D. No. 12-02215, located in Gibson County, Indiana.

Regulation Affected: 30 CFR 75.503 (Permissible electric face equipment; maintenance) and 30 CFR 18.35(a)(5)(i) (ii) (Portable (trailing) cables and cords).

Modification Request: The petitioner requests a modification of the existing standard to permit the maximum length of trailing cables to be increased for supplying power to permissible pumps in the Gibson North Mine. The petitioner states that:

(1) This petition will apply only to trailing cables supplying three-phase, 480-volt power for permissible pumps.

(2) The maximum length of the 480-volt power for the permissible pump will be 4000 feet.

(3) The permissible pump will be no greater than 6.2 horsepower.

(4) The KVA rating of the power center supplying power to the pump will be 500 KVA.

(5) The 480-volt power for permissible pump trailing cable will not be smaller than No. 6 American Wire Gauge (AWG).

(6) All circuit breakers used to protect the No. 6 AWG trailing cables exceeding 500 feet in length will have an instantaneous trip unit calibrated to trip at 60 amperes. The trip setting of these circuit breakers will be sealed or locked, and will have permanent, legible labels. Each label will identify the circuit breaker as being suitable for protecting No. 6 AWG cables. This label will be maintained legible.

(7) Replacement instantaneous trip units used to protect No. 6 AWG trailing cables exceeding 500 feet in length will be calibrated to trip at 60 amperes and this setting will be sealed or locked.

(8) All circuit breakers used to protect No. 2 AWG trailing cables exceeding 500 feet in length will have instantaneous trip units calibrated to trip at 150 amperes. The trip setting of these circuit breakers will be sealed or locked and will have permanent, legible labels. Each label will identify the circuit breaker as being suitable for protecting No. 2 AWG cables. This label will be maintained legible.

(9) Replacement instantaneous trip units used to protect No. 2 AWG trailing cables exceeding 500 feet in length will be calibrated to trip at 150 amperes. This setting will be sealed or locked.

(10) Permanent warning labels will be installed and maintained on the cover(s) of the power center to identify the location of each sealed or locked short-circuit protection device. These labels will warn miners not to change or alter the sealed short-circuit settings.

(11) The alternative method will not be implemented until all miners designated to examine the integrity of the seals or locks, verify the short-circuit settings, and proper procedures for examining trailing cables for defects and damage have received training.

(12) Within 60 days after this proposed decision and order becomes final, the proposed revisions for the petitioner's approved 30 CFR part 48 training plan will be submitted to the District Manager. The training plan will include the following:

(a) Mining methods and operating procedures for protecting the trailing cables against damage.

(b) Proper procedures for examining the trailing cables to ensure safe operating condition.

(c) The hazards of setting the instantaneous circuit breakers too high to adequately protect the trailing cables.

(d) How to verify the circuit interrupting device(s) protecting the trailing cable(s) are properly set and maintained.

The petitioner further states that procedures specified in 30 CFR 48.3 for proposed revisions to approved training plans will apply.

The petitioner asserts that the alternative method will guarantee no less than the same measure of protection for all miners than that of the existing standard.

Docket Number: M-2013-007-M.

Petitioner: McMurry Ready Mix Company, P.O. Box 2488, Casper, Wyoming 82602.

Mine: Crusher #2, MSHA I.D. No. 48-01363 and Crusher #3, MSHA I.D. No. 48-01518, located in Carbon County, Wyoming; Crusher #7, MSHA I.D. No. 48-01598, located in Converse County, Wyoming; and Crusher #4, MSHA I.D. No. 48-01569 and Crusher #6, MSHA I.D. No 48-01597, located in Natrona County, Wyoming.

Regulation Affected: 30 CFR 56.14205 (Machinery, equipment and tools).

Modification Request: The petitioner requests a modification of the existing standard to permit the use of a chain attached material dislodging implement to facilitate the removal of oversize material stuck between the jaw plates of an aggregate jaw crusher. The following procedures will be used if material is lodged in the jaw crusher:

1. The jaw will be shut down and locked/tagged out.

2. Competent personnel will place a material dislodging implement attached to a chain in position next to the material stuck in the jaw. This will be done from a secure platform above the jaw plate opening. Fall protection will be used if necessary. The free end of the chain will be attached to the jaw crusher chassis.

3. All personnel will exit off the jaw and relocate to a safe distance away from the jaw crusher.

4. Lockouts will be removed by the applicable person(s) who will relocate to the designated safe area.

5. The jaw is started from a safe distance to allow the implement to free the material stuck in the jaw. If unsuccessful, steps 1 through 5 will be repeated.

6. Upon successfully clearing the material, the jaw will be shut down to retrieve the implement and chain.

The petitioner proposes to install cameras to allow observation of the jaw plates from the button house location. The button house is located at such distance from the jaw crusher as to not place occupants in the way of hazards associated with the material dislodging process. The dislodging implement itself will be stored in a locked cabinet when not in use. A designated competent person will have the only key to the cabinet ensuring non-authorized employees will not use the implement.

The typical procedure to remove material from between the jaw plates of a jaw crusher involves shutting down the crusher, locking out the energizing circuits, and having personnel enter the jaw opening to place hoisting devices around the material for vertical movement or extraction. The personnel's entrance into the jaw exposes them to the additional hazard of a possible shift of the material which could pin the person against the interior of the jaw or cause injuries due to trying to maneuver in a tight space.

The petitioner asserts that the intent of this proposed modification is to remove mine personnel from the hazard area thereby eliminating the chance of injury to mine personnel.

Dated: April 12, 2013.
George F. Triebsch,
Director, Office of Standards, Regulations and Variances.

[FR Doc. 2013-09081 Filed 4-17-13; 8:45 am]

BILLING CODE 4510-43-P